DEPARTMENT OF THE INTERIOR

National Park Service

[NPS-WASO-NRNHL-21643; PPWOCRADP2, PCU00RP14.R50000]

National Historic Landmarks Committee of the National Park System Advisory Board Meeting

AGENCY: National Park Service, Interior.

ACTION: Notice of meeting.

SUMMARY: Notice is hereby given in accordance with the Federal Advisory Committee Act (5 U.S.C. Appendix 1-16), and Part 65 of title 36 of the Code of Federal Regulations, that a meeting of the National Historic Landmarks Committee of the National Park System Advisory Board will be held beginning at 10:00 a.m. on October 18, 2016, at the Charles Sumner School Museum and Archives. The meeting will continue beginning at 9:30 a.m. on October 19, 2016.

DATES: The meeting will be held on Tuesday, October 18, 2016, from 10:00 a.m. to 4:30 p.m.; and Wednesday, October 19, 2016, from 9:30 a.m. to 4:30 p.m. (EASTERN).

LOCATION: The Charles Sumner School Museum and Archives, 3rd Floor, The Richard L. Hurlbut Memorial Hall, 1201 17th Street NW., Washington, DC 20036.

Agenda: The National Park System Advisory Board and its National Historic Landmarks Committee may consider the following nominations:

ALASKA

Matanuska Colony Historic District, Palmer

Walrus Island Archeological District, Dillingham Census Area

ARIZONA

Painted Desert Community Complex, Petrified Forest National Park, Apache County

CALIFORNIA

Our Lady of Guadalupe Mission Chapel, San Jose

DELAWARE

George Read II House, New Castle

INDIANA

West Union Bridge, Parke County

NEBRASKA

Omaha Union Station, Omaha

NEW YORK

Davis-Ferris Organ, Village of Round Lake

Franklin D. Roosevelt Library, Hyde Park

NORTH CAROLINA

Pauli Murray Family Home, Durham

NORTH DAKOTA

Biesterfeldt Site, Ransom County

OHIO

Eldean Bridge, Miami County

May 4, 1970, Kent State Shootings Site, Kent

PENNSYLVANIA

W. A. Young and Sons Foundry And Machine Shop, Rices Landing

Proposed Amendments to Existing Designations:

LOUISIANA

Maison Olivier, St. Martinville (name change and updated documentation)

NEW YORK

Hamilton Grange, New York (updated documentation)

VIRGINIA

Ball's Bluff Battlefield Historic District, Leesburg (updated documentation and boundary change)

Virginia State Capitol, Richmond (name change and updated documentation)

FOR FURTHER INFORMATION CONTACT: Patricia Henry, Historian, National Historic Landmarks Program, National Park Service, 1849 C Street NW., Washington, DC 20240, telephone (202) 354-2216, or email: Patty_Henry@nps.gov.

SUPPLEMENTARY INFORMATION: The purpose of the meeting of the National Historic Landmarks Committee of the National Park System Advisory Board is to evaluate nominations of historic properties in order to advise the National Park System Advisory Board of the qualifications of each property being proposed for National Historic Landmark designation, and to make recommendations regarding the possible designation of those properties as National Historic Landmarks to the National Park System Advisory Board at their meeting on November 17-18, 2016, in Philadelphia, Pennsylvania. The Committee also makes recommendations to the National Park System Advisory Board regarding amendments to existing designations and proposals for withdrawal of designation. The members of the National Historic Landmarks Committee are:

Dr. Stephen Pitti, Chair

Dr. James M. Allan

Dr. Cary Carson

Dr. Yong Chen

Mr. Douglas Harris

Ms. Mary Hopkins

Mr. Luis Hoyos, AIA

Dr. Sarah A. Leavitt

Dr. Barbara J. Mills

Dr. Michael E. Stevens

Dr. Amber Wiley

Dr. David Young

The meeting will be open to the public. Pursuant to 36 CFR part 65, any member of the public may file, for consideration by the National Historic Landmarks Committee of the National Park System Advisory Board, written comments concerning the National Historic Landmarks nominations, amendments to existing designations, or proposals for withdrawal of designation.

Comments should be submitted to J. Paul Loether, Chief, National Historic Landmarks Program and National Register of Historic Places, National Park Service, 1849 C Street NW., Washington, DC 20240, email: Paul_Loether@nps.gov.

Before including your address, phone number, email address, or other personal identifying information in your comment, you should be aware that your entire comment—including your personal identifying information—may be made publicly available at any time. While you may ask us in your comment to withhold your personal identifying information from public review, we cannot guarantee that we will be able to do so.

Alma Ripps,
Chief, Office of Policy.

[FR Doc. 2016-22351 Filed 9-15-16; 8:45 am]

BILLING CODE 4310-EE-P